FEDERAL RESERVE SYSTEM

Change in Bank Control Notices; Acquisitions of Shares of a Savings and Loan Holding Company

The notificants listed below have applied under the Change in Bank Control Act (12 U.S.C. 1817(j)) and the Board's Regulation LL (12 CFR Part 238) to acquire shares of a savings and loan holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 21, 2012.

A. Federal Reserve Bank of San Francisco (Kenneth Binning, Vice President, Applications and Enforcement) 101 Market Street, San Francisco, California 94105-1579:

1. Barbara Marie Kershaw, Newport Beach, California; to retain voting shares of Malaga Financial Corporation, and thereby indirectly retain voting shares of Malaga Bank, FSB, both in Palos Verdes Estates, California.

Board of Governors of the Federal Reserve System, November , 2012.
Robert deV. Frierson,
Secretary of the Board.

[FR Doc. 2012-27028 Filed 11-5-12; 8:45 am]

BILLING CODE 6210-01-P